DEPARTMENT OF COMMERCE

National Oceanic and Atmospheric Administration

RIN 0648-XG270

Pacific Island Fisheries; Western Pacific Stock Assessment Review; Public Meeting

AGENCY: National Marine Fisheries Service (NMFS), National Oceanic and Atmospheric Administration (NOAA), Commerce.

ACTION: Notice of a public meeting.

SUMMARY: NMFS and the Western Pacific Fishery Management Council (Council) will convene a Western Pacific Stock Assessment Review (WPSAR) of a draft 2018 benchmark stock assessment for main Hawaiian Islands Kona crab.

DATES: See SUPPLEMENTARY INFORMATION for meeting dates and times and daily agenda.

ADDRESSES: The meeting will be held at the Western Pacific Fishery Management Council office at 1164 Bishop St., Suite 1400, Honolulu, HI 96813.

FOR FURTHER INFORMATION CONTACT: Michael Seki, Director—NMFS Pacific Islands Fisheries Science Center (PIFSC), telephone: (808) 725-5360.

SUPPLEMENTARY INFORMATION: The PIFSC conducted a draft 2018 benchmark stock assessment for main Hawaiian Islands Kona crab (Ranina ranina). The assessment provides the basis for management of this culturally important species. Previously, non-NOAA scientists conducted stock assessments for Kona crab in 1978 and, in collaboration with PIFSC scientists, in 2010-2011. The draft 2018 benchmark assessment incorporates data from 1948 through 2016 and uses a production model, incorporating improvements to data standardization and model assumptions. Specifically, catch per unit effort (CPUE) in the model includes new standardization coefficients split into two time series (1948-2005 and 2006-2016), due to passage of Hawaii state law prohibiting the taking of female Kona crab in 2006. The assessment model accounts for unreported catch by evaluating the use of published estimates of non-reporting ratios estimated for other fisheries in the main Hawaiian Islands, and by incorporating estimates of fishing effort specific to crustaceans from ancillary surveys. Stock status is evaluated against MSY-based reference points set in the Fishery Ecosystem Plan for the Hawaii Archipelago. Projections are provided to inform management setting of annual catch limits.

Section 301(a)(2) of the Magnuson-Stevens Fishery Conservation and Management Act (Magnuson-Stevens Act) requires that fishery conservation and management measures be based upon the best scientific information available. Magnuson-Stevens Act Section 302(g)(1)(E) provides that the Secretary of Commerce (Secretary) and each regional fishery management council may establish a peer review process for that Council for scientific information used to advise the Council about the conservation and management of a fishery. Consistent with this provision, the Council, PIFSC, and the NMFS Pacific Islands Regional Office have established the WPSAR process in an effort to improve the quality, timeliness, objectivity, and integrity of stock assessments and other scientific information used in managing fishery resources in the Pacific Islands Region.

Meeting Agenda for WPSAR Review

The meeting schedule and agenda follow. The WPSAR panel will meet from 9 a.m. to 5 p.m. each day. The agenda order may change and the meeting will run as late as necessary to complete scheduled business.

Day 1 Monday June 25, 2018

1. Welcome and introductions

2. Background information—Objectives and Terms of Reference

3. Fishery operation and management

4. History of stock assessments and reviews

5. Data

a. State of Hawaii fishery data reporting system

b. Post-release mortality and sex ratio

6. Presentation and review of stock assessment

a. Life history

b. Catch (reported and unreported)

c. Catch per unit effort

d. Assessment model

i. Base case model and priors

ii. Base case results

e. Retrospective analysis

f. Sensitivities

g. Projections

Day 2 Tuesday June 26, 2018

7. Continue presentation and review of stock assessment

Day 3 Wednesday June 27, 2018

8. Continue review of stock assessment

Day 4 Thursday June 28, 2018

9. Continue review of stock assessment

10. Public comment period

11. Panel discussions (Closed)

Day 5 Friday June 29, 2018

12. Panel discussions (Closed)

13. Panel presents recommendations (afternoon)

14. Adjourn

Special Accommodations

This meeting is physically accessible to people with disabilities. Please direct requests for sign language interpretation or other auxiliary aides to Michael Seki, Director, PIFSC, tel (808) 725-5360, fax (808) 725-5360, at least 5 days prior to the meeting date.

Authority: 16 U.S.C. 1801 et seq.

Dated: May 30, 2018.
Jennifer M. Wallace,
Acting Director, Office of Sustainable Fisheries, National Marine Fisheries Service.

[FR Doc. 2018-11977 Filed 6-4-18; 8:45 am]

BILLING CODE 3510-22-P